DEPARTMENT OF HOMELAND SECURITY

U.S. Customs and Border Protection

DEPARTMENT OF THE TREASURY

19 CFR Part 12

[CBP Dec. 22-15]

RIN 1515-AE74

Extension and Amendment of Import Restrictions on Archaeological and Ethnological Material From Cyprus

AGENCY: U.S. Customs and Border Protection, Department of Homeland Security; Department of the Treasury.

ACTION: Final rule.

SUMMARY: This document amends the U.S. Customs and Border Protection (CBP) regulations to reflect an extension and amendment of import restrictions on Pre-Classical and Classical archaeological objects, and Byzantine and Post-Byzantine ecclesiastical and ritual ethnological materials of the Republic of Cyprus. To fulfill the terms of the new agreement, titled “Agreement Between the Government of the United States of America and the Government of the Republic of Cyprus Concerning the Imposition of Import Restrictions on Categories of Archaeological and Ethnological Material of the Republic of Cyprus”, the Designated List, which was last described in CBP-Dec. 12-13, is amended in this document to reflect additional categories of archaeological material from an extended date range from the end of the Classical Period to A.D. 1770 and additional categories of ethnological material including architectural material, documents and manuscripts, traditional clothing, and emblems of the state.

DATES: Effective July 14, 2022.

FOR FURTHER INFORMATION CONTACT: For legal aspects, W. Richmond Beevers, Chief, Cargo Security, Carriers and Restricted Merchandise Branch, Regulations and Rulings, Office of Trade, (202) 325-0084, ot-otrrculturalproperty@cbp.dhs.gov. For operational aspects, Julie L. Stoeber, Chief, 1USG Branch, Trade Policy and Programs, Office of Trade, (202) 945-7064, 1USGBranch@cbp.dhs.gov.

SUPPLEMENTARY INFORMATION:

Background

Pursuant to the Convention on Cultural Property Implementation Act, Public Law 97-446, 19 U.S.C. 2601 et seq., which implements the 1970 United Nations Educational, Scientific and Cultural Organization (UNESCO) Convention on the Means of Prohibiting and Preventing the Illicit Import, Export and Transfer of Ownership of Cultural Property (823 U.N.T.S. 231 (1972)), the United States entered into a bilateral agreement with the Republic of Cyprus (“Cyprus”) on July 16, 2002, concerning the imposition of import restrictions on certain archaeological materials representing the Pre-Classical and Classical periods of Cyprus, ranging in date from approximately the 8th Millennium B.C. to approximately A.D. 330 (“the 2002 Agreement”).

On July 19, 2002, the former U.S. Customs Service (U.S. Customs and Border Protection's predecessor agency) published Treasury Decision (T.D.) 02-37 in the Federal Register (67 FR 47447), which amended § 12.104g(a) of title 19 of the Code of Federal Regulations (19 CFR 12.104g(a)) to reflect the imposition of these restrictions and included a list designating the types of archaeological and ethnological material covered by the restrictions.

Import restrictions listed at 19 CFR 12.104g(a) are effective for no more than five years beginning on the date on which the agreement enters into force with respect to the United States. This period may be extended for additional periods of no more than five years if it is determined that the factors which justified the agreement still pertain and no cause for suspension of the agreement exists. See 19 CFR 12.104g(a).

Since the initial final rule was published on July 19, 2002, the import restrictions were subsequently extended and/or amended five (5) times. First, on August 17, 2006, the Republic of Cyprus and the United States amended the 2002 Agreement (covering Pre-Classical and Classical archeological materials) to include Byzantine ecclesiastical and ritual ethnological materials dating from approximately the 4th century A.D. through approximately the 15th century A.D. that had been (and, at that time, were still) protected pursuant to an emergency action which was published in the Federal Register (64 FR 17529) on April 12, 1999. The amendment of the 2002 Agreement to cover both the archaeological materials and the ethnological materials was reflected in CBP Dec. 06-22, which was published in the Federal Register (71 FR 51724) on August 31, 2006. CBP Dec. 06-22 contained the list of Byzantine ecclesiastical and ritual ethnological materials from Cyprus previously protected pursuant to the emergency action and announced that import restrictions, as of August 31, 2006, were imposed on this cultural property pursuant to the amended Agreement (19 U.S.C. 2603(c)(4)). Thus, as of that date, the import restrictions covering materials described in CBP Dec. 06-22 were set to be effective through July 15, 2007.

Second, on July 13, 2007, following the exchange of diplomatic notes, CBP published a final rule (CBP Dec. 07-52) in the Federal Register (72 FR 38470) to extend the import restrictions for an additional five-year period.

Third, on July 13, 2012, following the exchange of diplomatic notes, CBP published a final rule (CBP Dec. 12-13) in the Federal Register (77 FR 41266) amending CBP regulations to reflect the extension of import restrictions for an additional five-year period and also to cover Post-Byzantine ecclesiastical and ritual ethnological materials of Cyprus ranging from approximately A.D. 1500 to approximately A.D. 1850.

Fourth, on August 1, 2012, CBP published a correcting amendment to CBP Dec. 12-13 in the Federal Register (77 FR 45479), because the amended Designated List and the regulatory text in the July 13, 2012 document contained language which was inadvertently inconsistent with the remainder of the document as to the historical period that the import restrictions cover for ecclesiastical and ritual ethnological materials from Cyprus.

Fifth and lastly, on July 14, 2017, following the exchange of diplomatic notes, CBP published a final rule (CBP Dec. 17-07) in the Federal Register (82 FR 32452) to extend the import restrictions for an additional five-year period through July 15, 2022.

On September 13, 2021, the United States Department of State proposed in the Federal Register (86 FR 50931) to extend and amend the agreement between the United States and Cyprus concerning the import restrictions on certain categories of archaeological and ethnological material from Cyprus. On April, 1, 2022, after consultation with and recommendations by the Cultural Property Advisory Committee, the Assistant Secretary for Educational and Cultural Affairs, United States Department of State, determined that: (1) the cultural heritage of Cyprus continues to be in jeopardy from pillage of certain archeological and ethnological material currently covered and that the import restrictions should be extended for an additional five years; and (2) the cultural heritage of Cyprus is in jeopardy from pillage of additional categories of archaeological material dating from the end of the Classical Period to A.D. 1770 and additional categories of ethnological material including architectural material, documents and manuscripts, traditional clothing, and emblems of the state, and that import restrictions on such types of archaeological and ethnological material should be imposed. Pursuant to the new agreement, the existing import restrictions will remain in effect for an additional five years through July 13, 2027, along with the imposition of additional import restrictions on new categories of archaeological and ethnological material, which will also be effective for a five-year period through July 13, 2027.

Accordingly, CBP is amending 19 CFR 12.104g(a) to reflect the extension of the import restrictions and amending the Designated List of cultural property described in CBP Dec. 12-13 with the addition of new categories of archaeological and ethnological material. The restrictions on the importation of archaeological material and ethnological material continue to be in effect through July 13, 2027. Importation of such material from Cyprus continues to be restricted through that date unless the conditions set forth in 19 U.S.C. 2606 and 19 CFR 12.104c are met.

The Designated List and additional information may also be found at the following website address: https://eca.state.gov/cultural-heritage-center/cultural-property-advisory-committee/current-import-restrictions by selecting the material for “Cyprus.”

Designated List of Archaeological and Ethnological Material of Cyrus

The Designated List contained in CBP Dec. 12-13, which describes the types of articles to which the import restrictions apply, is amended to reflect the inclusion of additional categories of archaeological and ethnological material in the Designated List. In order to clarify certain provisions of the Designated List contained in CBP Dec. 12-13, the amendment also includes minor revisions to the language and numbering of the Designated List. For the reader's convenience, CBP is reproducing the Designated List contained in CBP Dec. 12-13 in its entirety, with the changes, below.

The Designated List includes archaeological material from Cyprus ranging in date from approximately the 11th millennium B.C. to A.D. 1770, and ethnological material from Cyprus ranging in date from approximately the 4th century A.D. to A.D. 1878.

Categories of Archaeological and Ethnological Material

I. Archaeological Material

A. Ceramic

B. Stone

C. Metal

D. Glass, Faience, and Enamel

E. Ivory, Bone, Shell, Wood, and Other Organics

II. Ethnological Material

A. Ecclesiastical Ritual and Ceremonial Objects

B. Emblems of the State

C. Structural and Decorative Architectural Material

D. Documents and Manuscripts

E. Traditional Clothing and Textiles

I. Archaeological Material

Archaeological material includes categories of objects ranging in date from approximately the 11th millennium B.C. to A.D. 1770.

A. Ceramic

1. Vessels.

a. Neolithic and Chalcolithic (c. 8800-2300 B.C.)—Bowls and jars, including spouted vessels. Varieties include Combed ware, Black Lustrous ware, Red Lustrous ware, and Red-on-White painted ware. Approximately 10-24 cm in height.

b. Early Bronze Age (c. 2300-1850 B.C.)—Forms are hand-made and include bowls, jugs, juglets, jars, and specialized forms, such as askoi, pyxides, gourd-shape, multiple-body vessels, and vessels with figurines attached. Cut-away spouts, multiple spouts, basket handles, and round bases commonly occur. Incised, punctured, molded, and applied ornament, as well as polishing and slip, are included in the range of decorative techniques. Approximately 13-60 cm in height.

c. Middle Bronze Age (c. 1850-1550 B.C.)—Forms are hand-made and include bowls, jugs, juglets, jars, zoomorphic askoi, bottles, amphorae, and amphoriskoi. Some have multiple spouts and basket or ribbon handles. Decorative techniques include red and brown paint, incised or applied decoration, and polishing. Varieties include Red Polished ware, White Painted ware, Black Slip ware, Red Slip ware, and Red-on-Black ware. Approximately 4-25 cm in height.

d. Late Bronze Age (c. 1550-1050 B.C.)—Forms include bowls, jars, lamps, jugs and juglets, tankards, rhyta, bottles, kraters, alabastra, stemmed cups, cups, stirrup jars, amphorae, and amphoriskoi. A wide variety of spouts, handles, and bases are common. Zoomorphic vessels also occur. Decorative techniques include painted design in red or brown, polishing, and punctured or incised decoration. Varieties include White Slip, Base Ring ware, White Shaved ware, Red Lustrous ware, Bichrome Wheel-made ware, and Proto-White Painted ware. Some examples of local or imported Mycenaean Late Helladic III have also been found. Approximately 5-50 cm in height.

e. Cypro-Geometric I-III (c. 1050-750 B.C.)—Forms include bowls, lamps, jugs, juglets, jars, cups, skyphoi, amphorae, amphoriskos, and tripods. A variety of spouts, handles and base forms are used. Decorative techniques include paint in dark brown and red, ribbing, polish, and applied projections. Varieties include White Painted I-III wares, Black Slip I-III wares, Bichrome II-III wares, and Black-on-Red ware. Approximately 7-30 cm in height.

f. Cypro-Archaic I-II (c. 750-475 B.C.)—Forms include bowls, lamps, plates, jugs and juglets, cups, kraters, amphoriskoi, oinochoai, and amphorae. Many of the forms are painted with bands, lines, concentric circles, and other geometric and floral patterns. Animal designs occur in the Free Field style. Molded decoration in the form of female figurines may also be applied. Red and dark brown paint is used on Bichrome ware. Black paint on a red polished surface is common on Black-on-Red ware. Other varieties include Bichrome Red, Polychrome Red, and Plain White. Approximately 12-45 cm in height.

g. Cypro-Classical I-II (c. 475-325 B.C.)—Forms include bowls, shallow dishes, lamps, jugs and juglets, oinochoai, and amphorae. The use of painted decoration in red and brown, as well as blue/green and black continues. Some vessels have molded female figurines applied. Decorative designs include floral and geometric patterns. Burnishing also occurs. Varieties include Polychrome Red, Black-on-Red, Polychrome Red, Stroke Burnished, and White Painted wares. Approximately 6-40 cm in height.

h. Hellenistic (c. 325 B.C.-50 B.C.)—Forms include bowls, dishes, cups, unguentaria, lamps, jugs and juglets, pyxides, amphorae, pithoi, and cooking pots. Most of the ceramic vessels of the period are undecorated. Those that are decorated use red, brown, or white paint in simple geometric patterns. Ribbing is also a common decorative technique. Some floral patterns are also used. Varieties include Glazed Painted ware and Glazed ware. Imports include Eastern Sigillata and “Megarian” mould-made relief bowls. Approximately 5-25 cm in height.

i. Roman (c. 50 B.C.-A.D. 330)—Forms include bowls, dishes, cups, lamps, jugs and juglets, unguentaria, amphorae, and cooking pots. Decorative techniques include incision, embossing, molded decoration, grooved decoration, and paint. Varieties include Terra Sigillata and Glazed and Green Glazed wares. Approximately 5-55 cm in height.

j. Byzantine and Medieval Frankish, Lusignan, and Venetian (c. A.D. 330-1570)—Forms include undecorated plain wares, utilitarian, tableware, serving and storage jars, lamps, special shapes such as pilgrim flasks, and can be matte painted or glazed, including incised “sgraffitto” and stamped with elaborate polychrome decorations using floral, geometric, human, and animal motifs.

k. Ottoman (c. A.D. 1570-1770)—Early examples include green and turquoise vessels that may be in the vessel shapes mentioned above. In addition, this type includes inkstands, chalices, lamps, rose water flasks, censers, incense cases, kitchenware, and tableware. Sizes and shapes are varied; colors include blue-white, red, blue, yellow, purple, and green and may include floral or other painted or inscribed decorations.

2. Sculpture.

a. Terracotta Figurines (Small Statuettes).

i. Neolithic to Late Bronze Age (c. 8800-1050 B.C.)—Figurines are small, hand-made, and schematic in form. Most represent female figures, often standing and sometimes seated and giving birth or cradling an infant. Features and attributes are marked with incisions or paint. Figurines occur in Red-on-White ware, Red Polished ware, Red-Drab Polished ware, and Base Ring ware. Approximately 10-25 cm in height.

ii. Cypro-Geometric to Cypro-Archaic (c. 1050-475 B.C.)—Figurines show a greater diversity of form than earlier figurines. Female figurines are still common, but forms also include male horse-and-rider figurines; warrior figures; animals such as birds, bulls and pigs; tubular figurines; boat models; and human masks. In the Cypro-Archaic period, terra cotta models illustrate a variety of daily activities, including the process of making pottery and grinding grain. Other examples include musicians and men in chariots. Approximately 7-19 cm in height.

iii. Cypro-Classical to Roman (c. 475 B.C.-A.D. 330)—Figurines mirror the classical tradition of Greece and Roman. Types include draped women, nude youths, and winged figures. Approximately 9-20 cm in height.

b. Large Scale Terracotta Figurines—Dating to the Cypro-Archaic period (c. 750-475 B.C.), full figures about half life-size, are commonly found in sanctuaries. Illustrated examples include the head of a woman decorated with rosettes and a bearded male with spiral-decorated helmet. Approximately 50-150 cm in height.

c. Funerary Statuettes—Dating to the Cypro-Classical period (c. 475-325 B.C.), these illustrate both male and female figures draped, often seated, as expressions of mourning. Approximately 25-50 cm in height.

d. Architectural Elements—Baked clay (terracotta) elements used to decorate buildings, these elements include tiles, acroteria, antefixes, painted and relief plaques, metopes, cornices, roof tiles, pipes, and revetments, as well as wall and floor decorations in plaster. This category also includes wall brackets and wall-mounted lamps.

3. Inscriptions—Writing on clay either fired or unfired from the Late Bronze Age to the Ottoman period. These include inscribed tablets, weights, clay balls, inscribed handles, sling bullets, or parts of ceramic vessels.

4. Seals—Dating from the Neolithic (7500 B.C.) through the Ottoman period, conical seals, scarabs, cylinder seals, and bread stamps are incised with geometric decoration, pictorial scenes, and inscriptions. Approximately 2-12 cm in height.

5. Loom Weights and Spindle Whorls—From the early Bronze Age through the Ottoman period, shapes include conical, pyramidal, disc or rings. These can be stamped, incised, or glazed.

6. Sarcophagi—From the Archaic to the Medieval period. Some have figural scenes painted on them, others have figural scenes carved in relief, and some just have decorative moldings. Approximate date: c. 700 B.C. to A.D. 1500.

7. Pipes—Clay smoking pipes from the Medieval and Ottoman periods, including partial pipes such as stems and bowls.

B. Stone

1. Vessels—Ground stone vessels occur from the Epipaleolithic to the Ottoman period (c. 11,000 B.C.-A.D. 1770). Early vessels are from various stones including diabase, basalt, limestone, alabaster, marble, or other stone. Most are bowl-shaped; some are trough-shaped with spouts and handles. Neolithic vessels often have incised or perforated decoration. Late Bronze Age vessels include amphoriskoi and kraters with handles. Sometimes these have incised decoration. Alabaster was also used for stone vessels in the Late Bronze Age and Hellenistic period. In the latter period, stone vessels are produced in the same shapes as ceramic vessels: amphorae, unguentaria, etc. Approximately 10-30 cm in height.

2. Sculpture.

a. Neolithic to Late Bronze Age (c. 8800-1250 B.C.)—Forms include small scale human heads, fiddle-shaped human figures, steatopygous female figures, anthropomorphic cruciform figurines with incised decoration, and animal figures. Diabase, limestone, and picrolite are commonly used in these periods. Approximately 5-30 cm in height.

b. Cypro-Geometric to Cypro-Classical (c. 1050-325 B.C.)—Small scale to life-size human figures, whole and fragments, in limestone and marble, are similar to the Classical tradition in local styles. Examples include the limestone head of a youth in Neo-Cypriote style, votive female figures in Proto-Cypriot style, a kouros in Archaic Greek style, statues and statuettes representing Classical gods such as Zeus and Aphrodite, as well as portrait heads of the Greek and Roman periods. Approximately 10-200 cm in height.

c. Later Period Statuary (c. 325 B.C.-A.D. 1770)—Both large and small, in marble, limestone, sandstone, and other stone. Subject matter includes human, animal, and mythological figures and groups of figures in the round, in relief, or as inlay, as well as floral, vegetal and abstract elements, including fragments of statues.

3. Architectural Elements—Sculpted stone building elements occur from the 12th century B.C. through the Ottoman period. These include columns and column capitals, relief decoration, chancel panels, window frames, revetments, offering tables, coats of arms, and gargoyles. These include parts from funerary, religious, domestic, or administrative buildings or structures in different kinds of stone (e.g., limestone and marble).

4. Seals—Dating from the Neolithic (7500 B.C.) through the Ottoman period, conical seals, scarabs, cylinder seals, and bread stamps are incised with geometric decoration, pictorial scenes, and inscriptions. Approximately 2-12 cm in height.

5. Amulets, Pendants, and Beads—Dating from the Epipaleolithic up to A.D. 1770 and made from different types of stone (e.g., picrolite). Approximately 4-5 cm in length.

6. Inscriptions—Inscribed stone materials date from the 6th century B.C. through A.D. 1770. Funerary and votive plaques and stelae, mosaic floors, and building plaques were inscribed. This category also includes inscribed tombstones or other funerary or religious monuments, milestones, etc.

7. Funerary Stelae (Uninscribed) and Sarcophagi—From the Archaic to the Ottoman period, marble, limestone, and other stone sculptural monuments have relief decoration of animals or human figures seated or standing. Stone coffins also have relief decoration. Approximately 50-155 cm in height.

8. Floor Mosaics—Floor mosaics date as early as the 4th century B.C. in domestic and public contexts and continue to be produced through the 3rd century A.D. Examples include the mosaics at Nea Paphos, Kourion, and Kouklia.

9. Tools and Weapons—Starting in the Epipaleolithic, this category includes flint, obsidian, and other hard stones. Chipped stone types include blades, small blades, borers, scrapers, sickles, cores, arrow heads, and spindle whorls. Ground stone types include grinders (e.g., mortars, pestles, millstones, whetstones), choppers, axes, hammers, and mace heads. This category also includes tools such as loom weights and spindle whorls.

C. Metal

1. Copper/Bronze.

a. Vessels and Utensils—Dating from the Bronze Age (c. 2300 B.C.) through A.D. 1770, bronze vessel forms include bowls, cups, amphorae, jugs, juglets, pyxides, dippers, lamp stands, dishes, and plates. Approximately 4-30 cm in height.

b. Bronze Stands—Dating from the Late Bronze Age (c. 1550 B.C.) through the end of the Classical period (c. 325 B.C.), are bronze stands with animal and other decoration.

c. Sculpture—Dating from the Late Bronze Age (c. 1550) to the end of the Hellenistic period (c. 50 B.C.), small figural sculpture includes human forms with attached attributes such as spears or goblets, animal figures, animal- and vessel-shaped weights, and Classical representations of gods and mythological figures. This category also includes statuettes and statues of votive or religious nature. Approximately 5-25 cm in height.

d. Jewelry and Personal Objects—Dating from the Early Bronze Age (c. 2300 B.C.) to the end of the Roman period (A.D. 330), forms include toggle pins, straight pins, fibulae, and mirrors.

2. Silver.

a. Vessels—Dating from the Bronze Age (c. 2300 B.C.) through the end of the Roman period (A.D. 330), forms include bowls, dishes, coffee services, and ceremonial objects such as incense burners. These are often decorated with molded or incised geometric motifs or figural scenes.

b. Jewelry and Personal Objects—Starting from the Late Bronze Age (c. 2300 B.C.), forms include fibulae, rings, bracelets, and spoons.

3. Gold Jewelry and Personal Objects—Gold jewelry has been found on Cyprus starting in the Early Bronze Age (c. 2300 B.C.). Items include hair ornaments, bands, wreaths, frontlets, pectorals, earrings, necklaces, rings, pendants, plaques, beads, and bracelets.

4. Coins of Cypriot Types.

Coins of Cypriot types made of gold, silver, and bronze including but not limited to:

a. Issues of the ancient kingdoms of Amathus, Kition, Kourion, Idalion, Lapethos, Marion, Paphos, Soli, and Salamis dating from the end of the 6th century B.C. to 332 B.C.

b. Issues of the Hellenistic period, such as those of Paphos, Salamis, and Kition from 332 B.C. to c. 30 B.C.

c. Provincial and local issues of the Roman period from c. 30 B.C. to A.D. 235. Often these have a bust or head on one side and the image of a temple (the Temple of Aphrodite at Palaipaphos) or statue (statue of Zeus Salaminios) on the other.

d. Byzantine, Medieval Frankish, Lusignan, Venetian, and Ottoman types that circulated primarily in Cyprus, ranging in date from A.D. 235 to 1770. Coins were made in copper, bronze, silver, and gold. Examples are generally round, have writing, and show imagery of animals, buildings, symbols, or royal or imperial figures.

5. Tools—In copper, bronze, iron, silver, gold, and lead. Types include hooks, weights, ingots, axes, scrapers (strigils), trowels, keys; the tools of craftspersons such as carpenters, masons and metal smiths; and medical tools such as needles, spoons, lancets, and forceps.

6. Seals and Tokens—In lead, tin, copper, bronze, silver, and gold. Types include rings, amulets, and seals with shank.

7. Weapons and Armor—In copper, bronze, iron, and lead. Types include both launching weapons (spears and javelins) and weapons for hand-to-hand combat (swords, daggers, etc.). Armor includes body armor, such as helmets, cuirasses, shin guards, and shields, and horse armor often decorated with elaborate engraved, embossed, or perforated designs.

8. Vessels—In bronze, gold, and silver. These may belong to conventional shapes such as bowls, cups, jars, jugs, strainers, cauldrons, and lamps, or may occur in the shape of an animal or part of an animal.

D. Glass, Faience, and Enamel

1. Vessels—Shapes include small jars, lamps, bowls, animal shaped, goblet, spherical, candle holders, and perfume jars (unguentaria).

2. Beads, Seals, and Spindle Whorls—Globular and relief beads, other jewelry, seals, and spindle whorls.

3. Small Statuary—Includes human and animal figures in the round, scarabs, and other imitations of eastern themes. These range from approximately 3 to 20 cm in height.

E. Ivory, Bone, Shell, Wood, and Other Organics

1. Small Statuary and Figurines—Usually in ivory or wood. Subject matter includes human and animal figures and groups of figures in the round or as part of composite objects. These range from approximately 10 cm to 1 m in height.

2. Personal Ornaments—In bone, ivory, and shell. Types include amulets, combs, pins, spoons, small containers, necklaces, bracelets, buckles, and beads.

3. Seals and Stamps—Small devices usually in ivory with at least one side engraved with a design for stamping or sealing; they can be discoid, cuboid, conoid, or in the shape of animals or fantastic creatures (e.g., a scarab).

4. Tools—Including needles, handles, spatulae, and spindle whorls.

5. Vessels—Often decorated with an incised scene (e.g., geometric, animal, human, etc.), and including boxes and lids.

6. Furniture—Bone and ivory furniture inlays and veneers.

7. Ships and Vehicles—This includes whole ships and vehicles or pieces used in composing a ship, chariot, or other vehicle; typically in wood.

II. Ethnological Material

Ethnological material covered by the agreement includes ecclesiastical ritual and ceremonial objects, emblems of the state, structural and decorative architectural material, documents and manuscripts, and traditional clothing that contribute to the knowledge of the origins, development, and history of the Cypriot people. This includes objects from the 4th century A.D. starting in the Byzantine Period and ending in A.D. 1878 with the British Protectorate.

A. Ecclesiastical Ritual and Ceremonial Objects

1. Metal.

a. Bronze—Ceremonial objects include icons, small figural sculpture, crosses, censers (incense burners), rings, and buckles for ecclesiastical garments. The objects may be decorated with engraved or modeled designs or Greek inscriptions. Crosses, rings and buckles are often set with semi-precious stones.

b. Lead—Lead objects include ampulla (small bottle-shaped forms) used in religious observance.

c. Silver and Gold—Ceremonial vessels and objects used in ritual and as components of church treasure. Ceremonial objects include icons, censers (incense burners), book covers, liturgical crosses, archbishop's crowns, buckles, and chests including reliquaries. These are often decorated with molded or incised geometric motifs or scenes from the Bible, and encrusted with semi-precious or precious stones. The gems themselves may be engraved with religious figures or inscriptions. Church treasure may include all of the above, as well as rings, earrings, and necklaces (some decorated with ecclesiastical themes) and other implements (e.g., spoons).

2. Wood—Artifacts made of wood are primarily those intended for ritual or ecclesiastical use. These include painted icons, painted wood screens (iconostases), carved doors, crosses, painted wooden beams from churches or monasteries, thrones, chests including reliquaries, and musical instruments. Religious figures (Christ, the Apostles, the Virgin, and others) predominate in the painted and carved figural decoration. Ecclesiastical furniture and architectural elements may also be decorated with geometric or floral designs.

3. Ivory and Bone—Ecclesiastical and ritual objects of ivory and bone boxes, plaques, pendants, candelabra, stamp rings, crosses, and relics. Carved and engraved decoration includes religious figures, scenes from the Bible, and floral and geometric designs.

4. Glass—Ecclesiastical objects such as lamps and ritual vessels.

5. Textiles and Ritual Garments—Ecclesiastical garments and other ritual textiles. Robes, vestments and altar clothes are often of a fine fabric and richly embroidered in silver and gold. Embroidered designs include religious motifs and floral and geometric designs.

6. Stone.

a. Wall Mosaics—Wall mosaics are found in ecclesiastical buildings. These generally portray images of Christ, Archangels, the Apostles, and Saints in scenes of Biblical events. Surrounding panels may contain animal, floral, or geometric designs.

b. Floor Mosaics—Floor mosaics from ecclesiastical contexts. Examples include the mosaics at Nea Paphos, Kourion, Kouklia, Chrysopolitissa Basilica and Campanopetra Basilica. Floor mosaics may have animal, floral, geometric designs, or inscriptions.

7. Funerary Objects—This category includes objects related to funerary rites and burials in all materials. Examples of funerary objects include, but are not limited to, the following objects:

a. Sepulchers—Sepulchers are repositories for remains of the dead, primarily in stone (usually limestone or marble), but also in metal and wood. Types of burial containers include sarcophagi, caskets, coffins, and urns. These may also have associated sculpture in relief or in the round. May be plain or have figural, geometric, or floral motifs either painted or carved in relief. May also contain human or animal remains.

b. Inscriptions, Memorial Stones, Epitaphs, and Tombstones—This category includes inscribed funerary objects, primarily slabs in limestone, marble, and ceramic; engraved in a variety of languages and scripts. These may also have associated sculpture in relief or in the round.

8. Frescoes/Wall Paintings—Wall paintings from religious structures (churches, monasteries, chapels, etc.). Like the mosaics, wall paintings generally portray images of Christ, Archangels, the Apostles, and Saints in scenes of Biblical events. Surrounding paintings may contain animal, floral, or geometric designs.

B. Emblems of the State

This category includes items that provide information on periods of social and political history of the people of Cyprus from the Byzantine Period through the end of the Ottoman Period that may be absent from written records.

1. Clothing—Ceremonial garments, clothing emblematic of imperial, court, or government position, and other accessories thereof such as shoes, headdresses and hats, belts, and jewelry.

2. Weapons and Armor.

a. Weapons—These are often in iron, steel, or other metal. This category includes arrows, daggers, swords, saifs, scimitars, other blades with or without sheaths, spears, and pre-industrial firearms and cannon; may be for use in combat or ceremonial. May be inlaid with gemstones, embellished with silver or gold, or engraved with floral or geometric motifs. Grips or hilts may be made of metal, wood, or semi-precious stones such as agate, or bound with leather.

b. Armor—Armor may consist of small metal scales, originally sewn to a backing of textile or leather. This type also includes helmets, body armor, shields, and horse armor. Other objects may be made of leather, including archer's bags, shields, and masks.

c. Auxiliary Objects and Vehicles—Powder horns and belts; military standards; and boats, chariots, or other means of official or military transportation, and parts thereof.

3. Ceremonial Objects and Containers—Objects of imperial, court, or government office such as scepters, staffs, insignia, relics, and monumental boxes, trays, and containers.

4. Stamps, Seals, and Writing Instruments—Stamps, seals including seal rings, and writing implements for official use by the state.

5. Wall Hangings and Flags—Often in silk or linen, tapestries, wall hangings, and other representations and emblems of the imperial court; flags, banners, flagstaffs, and finials.

6. Musical Instruments—This category includes instruments important for state ceremonies, such as drums of various sizes in leather, metal instruments, such as cymbals and trumpets, and wooden instruments.

C. Structural and Decorative Architectural Material

This category includes architectural elements and decoration from religious and public buildings. These buildings are comparatively rare due to the combination of historical influences on the island of Cyprus, including successive cycles of Arab and Byzantine conquest, occupation during the Medieval Crusades, and a period of Ottoman influence.

1. Structural Material—Usually in stone, plaster, metal, or wood, including blocks; columns, capitals, bases, lintels, jambs, friezes, and pilasters; panels, doors, door frames, and window fittings; altars, prayer niches (mihrab), screens, iconostasis, fountains, ceilings, tent poles, and carved and molded brick.

2. Relief and Inlay Sculpture—Usually in stone or plaster, includes relief and inlay sculpture such as appliques and plaques that may have been part of a building. May be plain, molded, carved, or inscribed. Decorative motifs may be incised or in high relief.

3. Other Decorative Material—In stone, metal, wood, glass, and plaster. Metal elements are primarily in copper, brass, lead, and alloys, and may include doors, door fixtures, lathes, finials, chandeliers, screens, and sheets to protect domes. Glass elements include windows and mosaic tesserae in floors, walls, and ceilings.

D. Documents and Manuscripts

This category includes written records of religious, political, or scientific importance, including, but not limited to, the following:

1. Works on Papyrus, Parchment, Paper, or Leather—Papyrus documents are often rolled and/or fragmentary. Parchment and paper documents may be single leaves or bound as scrolls or books. Works on paper and parchment may have illustrations or illuminated paintings with gold or other colors. There are also examples of religious and/or rare books written on leather pages.

2. Containers and Covers—Boxes for books or scrolls made of wood or other organic materials, and book or manuscript covers made of leather, textile, or metal.

E. Traditional Clothing and Textiles

Traditional Cypriot clothing and textiles were signifiers of identity, social status, and culture, providing information about the multiple religious and ethnic populations in Cyprus from the Byzantine through Ottoman periods which may be absent from written records as historical documents rarely address ceremonies or social customs of non-elite groups. This category includes, but is not limited to, headdresses, headbands, hats, and pins (fez, kasketo); pants, dresses, and other body covers (karpastiki, pafitki, sayia/saya, sarka, doupletti, foustani, routzieti, vraka, gileko, zimbouni); aprons, belts and girdles (zonari), and socks (klatses) and shoes (frangopodines, scarpes).

Inapplicability of Notice and Delayed Effective Date

This amendment involves a foreign affairs function of the United States and is, therefore, being made without notice or public procedure under 5 U.S.C. 553(a)(1). For the same reason, a delayed effective date is not required under 5 U.S.C. 553(d)(3).

Regulatory Flexibility Act

Because no notice of proposed rulemaking is required, the provisions of the Regulatory Flexibility Act (5 U.S.C. 601 et seq.) do not apply.

Executive Order 12866

CBP has determined that this document is not a regulation or rule subject to the provisions of Executive Order 12866 because it pertains to a foreign affairs function of the United States, as described above, and therefore is specifically exempted by section 3(d)(2) of Executive Order 12866.

Signing Authority

This regulation is being issued in accordance with 19 CFR 0.1(a)(1), pertaining to the Secretary of the Treasury's authority (or that of his/her delegate) to approve regulations related to customs revenue functions.

Chris Magnus, the Commissioner of CBP, having reviewed and approved this document, has delegated the authority to electronically sign this document to Robert F. Altneu, who is the Director of the Regulations and Disclosure Law Division for CBP, for purposes of publication in the Federal Register.

List of Subjects in 19 CFR Part 12

Cultural property, Customs duties and inspection, Imports, Prohibited merchandise, and Reporting and recordkeeping requirements.

Amendment to the CBP Regulations

For the reasons set forth above, part 12 of title 19 of the Code of Federal Regulations (19 CFR part 12) is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624.

* * * * *

Sections 12.104 through 12.104i also issued under 19 U.S.C. 2612;

* * * * *

2. In § 12.104g, amend the table in paragraph (a) by revising the entry for Cyprus to read as follows:

§ 12.104g Specific items or categories designated by agreements or emergency actions.

(a) * * *

State party | Cultural property | Decision No.
* * * * * * *
Cyprus | Archaeological material ranging approximately from the 11th millennium B.C. to A.D. 1770 and ethnological material ranging from approximately the 4th century A.D. to A.D. 1878 | CBP Dec. 22-15.
* * * * * * *

* * * * *

Robert F. Altneu,
Director, Regulations & Disclosure Law Division, Regulations & Rulings, Office of Trade, U.S. Customs and Border Protection.
Approved:
Thomas C. West, Jr.,
Deputy Assistant Secretary of the Treasury for Tax Policy.

[FR Doc. 2022-15398 Filed 7-14-22; 4:15 pm]

BILLING CODE 9111-14-P